DEPARTMENT OF TRANSPORTATION

Office of the Secretary

Notice of Applications for Certificates of Public Convenience and Necessity and Foreign Air Carrier Permits Filed Under Subpart B (Formerly Subpart Q) During the Week Ending July 6, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28657.

Date Filed: July 2, 2007.

Due Date for Answers, Conforming Applications, or Motion to Modify Scope: July 23, 2007.

Description: Application of McCall Aviation, Inc., requesting authority to operate scheduled passenger service as a commuter air carrier.

Docket Number: OST-2007-28675.

Date Filed: July 3, 2007.

Due Date for Answers, Conforming Applications, or Motion to Modify Scope: July 24, 2007.

Description: Application of Thomas Cook Airlines UK Limited, (“Thomas Cook UK”) requesting a foreign air carrier permit so that Thomas Cook UK will be able to exercise new rights made available to European air carriers pursuant to the Air Transport Agreement between the United States and the European Community and the Member States of the European Union (US-EC Agreement). Thomas Cook UK also requests an amendment to its existing exemption to the extent necessary to enable it to provide the services covered by this application while the Department evaluates Thomas Cook UK's application for a foreign air carrier permit.

Docket Number: OST-2007-27060.

Date Filed: July 5, 2007.

Due Date for Answers, Conforming Applications, or Motion to Modify Scope: July 25, 2007.

Description: Application of Zoom Airlines Limited (“Zoom”), requesting amendment no. 2 to its application for a foreign air carrier permit and an exemption to conduct: (i) Foreign scheduled and charter air transportation of persons, property and mail from any point(s) behind any Member State(s) of the European Community via any point(s) in any Member State(s) and intermediate points to any point(s) in the United States and beyond; (ii) foreign scheduled and charter air transportation of persons, property and mail between any point(s) in the United States and any point(s) in any member of the European Common Aviation Area; (iii) foreign scheduled and charter cargo air transportation between any point(s) in the United States and any other points(s); (iv) other charters pursuant Part 212; and (v) transportation authorized by any additional route or other right(s) made available to European Community carriers in the future.

Docket Number: OST-2007-28705.

Date Filed: July 6, 2007.

Due Date for Answers, Conforming Applications, or Motion to Modify Scope: July 27, 2007.

Description: Application of Virgin Blue International Airlines Pty Ltd (“VBIA”), requesting a foreign air carrier permit and an exemption in order to engage in scheduled foreign air transportation of persons, property and mail between the United States and Australia to the full extent authorized by the Air Transport Agreement between the United States of the America and the Government of the Commonwealth of Australia (“the US-Australia Agreement”). VBIA also requests authority to engage in charter trips in foreign air transportation and other charters.

Renee V. Wright,
Program Manager, Docket Operations, Federal Register Liaison.

[FR Doc. E7-17848 Filed 9-10-07; 8:45 am]

BILLING CODE 4910-9X-P